DEPARTMENT OF HOMELAND SECURITY

Federal Emergency Management Agency

44 CFR Part 65

[Docket No. FEMA-B-7761]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001, et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority 42 U.S.C. 4001, et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona: Pinal | City of Casa Grande (07-09-1769P) | November 14, 2007; November 21, 2007; Copper Basin News | The Honorable Robert M. Jackson, Mayor, City of Casa Grande, 510 East Florence Boulevard, Casa Grande, AZ 85222 | December 5, 2007 | 040080
Arizona: Yavapai | City of Prescott (07-09-1688P) | November 15, 2007; November 22, 2007; Prescott Daily Courier | The Honorable Rowle Simmons, Mayor, City of Prescott, 201 South Cortez Street, Prescott, AZ 86303 | February 21, 2008 | 040098
California: Alameda | City of Hayward (08-09-0157P) | November 21, 2007; November 28, 2007; The Daily Review | The Honorable Michael Sweeney, Mayor, City of Hayward, 777 B Street, Hayward, CA 94541 | February 27, 2008 | 065033
California: Riverside | City of Perris (07-09-0955P) | November 8, 2007; November 15, 2007; The Press-Enterprise | The Honorable Daryl R. Busch, Mayor, City of Perris, 101 North D Street, Perris, CA 92570 | February 14, 2008 | 060258
California: Riverside | Unincorporated areas of Riverside County (07-09-0955P) | November 8, 2007; November 15, 2007; The Press-Enterprise | The Honorable John F. Tavaglione, Chairman, Board of Supervisors, Riverside County, 4080 Lemon Street, Fifth Floor, Riverside, CA 92501 | February 14, 2008 | 060245
Colorado: Jefferson | City of Lakewood (07-08-0666P) | November 15, 2007; November 22, 2007; The Golden Transcript | The Honorable Steve Burkholder, Mayor, City of Lakewood, Lakewood Civic Center South, 480 South Allison Parkway, Lakewood, CO 80226 | February 21, 2008 | 085075
Connecticut: New Haven | Town of Branford (07-01-0657P) | October 4, 2007; October 11, 2007; New Haven Register | The Honorable Cheryl Morris, First Selectwoman, Town of Branford, 1019 Main Street, Branford, CT 06405 | September 19, 2007 | 090073
Florida: Duval | City of Jacksonville (07-04-2369P) | November 12, 2007; November 19, 2007; Jacksonville Daily Record | The Honorable John Peyton, Mayor, City of Jacksonville, City Hall at Saint James, Fourth Floor, 117 West Duval Street, Jacksonville, FL 32202 | February 19, 2008 | 120077
Florida: Okaloosa | Unincorporated areas of Okaloosa County (07-04-4369P) | November 15, 2007; November 22, 2007; Northwest Florida Daily News | Mr. James D. Curry, County Administrator, Okaloosa County, 1804 Lewis Turner Boulevard, Suite 400, Fort Walton Beach, FL 32547 | February 21, 2008 | 120173
Florida: Polk | City of Davenport (07-04-5360P) | November 7, 2007; November 14, 2007; The Polk County Democrat | The Honorable Peter Rust, Mayor, City of Davenport, P.O. Box 125, Davenport, FL 33836-0125 | October 29, 2007 | 120410
Georgia: Columbia | Unincorporated areas of Columbia County (07-04-4563P) | November 14, 2007; November 21, 2007; Columubia County News-Times | The Honorable Ron C. Cross, Chairman, Columbia County Board of Commissioners, P.O. Box 498, Evans, GA 30809 | October 30, 2007 | 130059
Georgia: Coweta | City of Newnan (07-04-4787P) | November 15, 2007; November 22, 2007; The Times-Herald | The Honorable Keith Brady, Mayor, City of Newnan, City Hall, 25 LaGrange Street, Newnan, GA 30263 | February 21, 2008 | 130062
Georgia: DeKalb | City of Atlanta (07-04-3101P) | November 14, 2007; November 21, 2007; The Atlanta Journal and Constitution | The Honorable Shirley Franklin, Mayor, City of Atlanta, 55 Trinity Avenue, Suite 2500, Atlanta, GA 30303 | February 20, 2008 | 135157
Georgia: DeKalb | City of Decatur (07-04-3101P) | November 14, 2007; November 21, 2007; Dunwoody Crier | The Honorable Bill Floyd, Mayor, City of Decatur, P.O. Box 220, Decatur, GA 30031 | February 20, 2008 | 135159
Georgia: DeKalb | Unincorporated areas of DeKalb County (07-04-3101P) | November 14, 2007; November 21, 2007; Dunwoody Crier | The Honorable Burrell Ellis, Chairman, DeKalb County, Board of Commissioners, 1300 Commerce Drive, Decatur, GA 30030 | February 20, 2008 | 130065
Georgia: Murray | Unincorporated areas of Murray County (07-04-2594P) | November 16, 2007; November 23, 2007; The Dalton Daily Citizen | The Honorable Jim Welch, Murray County Commissioner, P.O. Box 1129, Chatsworth, GA 30705 | February 22, 2008 | 130366
Iowa: Linn | City of Marion (07-07-1087P) | November 21, 2007; November 28, 2007; Cedar Rapids Gazette | The Honorable John Nieland, Mayor, City of Marion, 195 35th Street, Marion, IA 52302 | February 27, 2008 | 190191
Iowa: Linn | Unincorporated areas of Linn County (07-07-1087P) | November 21, 2007; November 28, 2007; Cedar Rapids Gazette | The Honorable Linda Langston, Chairperson, Linn County Board of Supervisors, 930 First Street, Southwest, Cedar Rapids, IA 52404 | February 27, 2008 | 190829
Maine: Lincoln | Town of Bristol (07-01-0799P) | November 8, 2007; November 15, 2007; The Lincoln County News | The Honorable Chad Hanna, Chairman, Board of Selectmen, Town of Bristol, P.O. Box 147, Bristol, ME 04539 | October 23, 2007 | 230215
Massachusetts: Bristol | Town of Easton (07-01-0531P) | November 9, 2007; November 16, 2007; The Easton Journal | The Honorable Colleen A. Corona, Chairman, Board of Selectmen, Town of Easton, 136 Elm Street, North Easton, MA 02356 | February 15, 2008 | 250053
Missouri: Greene | Unincorporated areas of Greene County (07-07-1448P) | November 8, 2007; November 15, 2007; Springfield News-Leader | The Honorable David Coonrod, Presiding Commissioner, Greene County, 933 North Robberson, Springfield, MO 65802 | February 14, 2008 | 290782
Missouri: Jackson | City of Lee's Summit (07-07-1867P) | November 23, 2007; November 30, 2007; Lee's Summit Journal | The Honorable Karen Messerli, Mayor, City of Lee's Summit, 220 Southeast Green Street, Lee's Summit, MO 64063 | December 10, 2007 | 290174
Nebraska: Lancaster | City of Lincoln (07-07-0628P) | November 8, 2007; November 15, 2007; Lincoln Journal Star | The Honorable Chris Beutler, Mayor, City of Lincoln, 555 South 10th Street, Second Floor, Room 208, Lincoln, NE 68508 | October 24, 2007 | 315273
Nevada: Clark | Unincorporated areas of Clark County (07-09-1179P) | November 8, 2007; November 15, 2007; Las Vegas Review-Journal | The Honorable Rory Reid, Chair, Clark County Board of Commissioners, 500 South Grand Central Parkway, Las Vegas, NV 89106 | February 14, 2008 | 320003
Nevada: Washoe | Unincorporated areas of Washoe County (07-09-1314P) | November 14, 2007; November 21, 2007; Reno Gazette-Journal | The Honorable Robert Larkin, Chair, Washoe County Board of Commissioners, P.O. Box 11130, Reno, NV 89520 | November 30, 2007 | 320019
New York: Rockland | Town of Clarkstown (07-02-0757P) | November 1, 2007; November 8, 2007; Rockland County Times | The Honorable Alexander J. Gromack, Supervisor, Town of Clarkstown, 10 Maple Avenue, New City, NY 10956 | April 16, 2008 | 360679
North Carolina: Wake | Unincorporated areas of Wake County (06-04-C341P) | December 10, 2007; December 17, 2007; The News and Observer | Mr. David C. Cooke, Manager, Wake County, 337 South Salisbury Street, Suite 1100, Raleigh, NC 27602 | December 3, 2007 | 370368
Oklahoma: Cleveland | City of Moore (07-06-1082P) | November 8, 2007; November 15, 2007; The Norman Transcript | The Honorable Glenn Lewis, Mayor, City of Moore, 301 North Broadway, Moore, OK 73160 | February 14, 2008 | 400044
Oklahoma: Payne | City of Stillwater (07-06-0679P) | November 15, 2007; November 22, 2007; Stillwater NewsPress | The Honorable Roger L. McMillan, Mayor, City of Stillwater, 723 South Lewis Street, Stillwater, OK 74076 | November 30, 2007 | 405380
Oklahoma: Payne | Unincorporated areas of Stillwater County (07-06-0679P) | November 15, 2007; November 22, 2007; Stillwater NewsPress | The Honorable Gloria A. Hesser, County Commissioner, District No. 2, Stillwater, 315 West Sixth Street, Suite 203, Stillwater, OK 74074 | November 30, 2007 | 400493
Oklahoma: Tulsa | City of Sand Springs (07-06-2114P) | November 15, 2007; November 22, 2007; Tulsa World | The Honorable Robert L. Walker, Mayor, City of Sand Springs, P.O. Box 338, Sand Springs, OK 74063 | November 30, 2007 | 400211
Oklahoma: Tulsa | Unincorporated areas of Tulsa County (07-06-2114P) | November 15, 2007; November 22, 2007; Tulsa World | The Honorable Randi Miller, Chair, Tulsa County Board of Commissioners, 500 South Denver Avenue, Tulsa, OK 74103 | November 30, 2007 | 400462
Pennsylvania: Chester | Township of West Goshen (07-03-1259P) | November 15, 2007; November 22, 2007; Daily Local News | The Honorable Robert White, Chairman, Board of Supervisors, West Goshen Township, 1025 Paoli Pike, West Chester, PA 19380-4699 | February 21, 2008 | 420293
Pennsylvania: Montgomery | Township of Lower Moreland (07-03-0583P) | November 8, 2007; November 15, 2007; The Globe | The Honorable Kurt G. Mayer, President, Lower Moreland Township Commissioners, 640 Red Lion Road, Huntingdon Valley, PA 19006 | October 24, 2007 | 420702
Pennsylvania: Montgomery | Township of Plymouth (07-03-1103P) | November 14, 2007; November 21, 2007; The Times Herald | The Honorable Alexander Fazzini, Chair, Plymouth Township Council, 700 Belvoir Road, Plymouth Meeting, PA 19462 | February 20, 2008 | 420955
Puerto Rico: Puerto Rico | Commonwealth of Puerto Rico (07-02-0993P) | November 15, 2007; November 22, 2007; The San Juan Star | The Honorable Anibal Acevedo-Vila, Governor of Puerto Rico, P.O. Box 82, La Fortaleza, San Juan, PR 00901 | February 21, 2008 | 720000
South Carolina: Lexington | Town of Springdale (07-04-5295P) | November 8, 2007; November 15, 2007; The Lexington County Chronicle | The Honorable Pat G. Smith, Mayor, Town of Springdale, 2915 Platt Springs Road, Springdale, SC 29170 | October 31, 2007 | 450138
Texas: Collin | City of McKinney (07-06-1687P) | November 8, 2007; November 15, 2007; McKinney Courier-Gazette | The Honorable Bill Whitfield, Mayor, City of McKinney, 222 North Tennessee Street, McKinney, TX 75069 | February 14, 2008 | 480135
Texas: Collin | City of Plano (07-06-0629P) | November 8, 2007; November 15, 2007; Plano Star Courier | The Honorable Pat Evans, Mayor, City of Plano, 1520 Avenue K, Plano, TX 75074 | October 31, 2007 | 480140
Texas: Collin | Unincorporated areas of Collin County (07-06-1687P) | November 8, 2007; November 15, 2007; McKinney Courier-Gazette | The Honorable Keith Self, Collin County Judge, Collin County Government Center, 210 South McDonald Street, Suite 626, McKinney, TX 75069 | February 14, 2008 | 480130
Texas: Harris | Unincorporated areas of Harris County (07-06-1886P) | November 15, 2007; November 22, 2007; Houston Chronicle | The Honorable Ed Emmett, Harris County Judge, 1001 Preston, Suite 911, Houston, TX 77002 | February 20, 2008 | 480287
Texas: Kendall | Unincorporated areas of Kendall County (07-06-0875P) | November 16, 2007; November 23, 2007; The Boerne Star | The Honorable Eddie John Vogt, Kendall County Judge, Kendall County Courthouse, 201 East San Antonio Street, Boerne, TX 78006 | November 29, 2007 | 480417
Texas: Tarrant | City of Arlington (07-06-1545P) | October 11, 2007; October 18, 2007; Arlington Star-Telegram | The Honorable Robert Cluck, Mayor, City of Arlington, 101 West Abram Street, Arlington, TX 76010 | September 28, 2007 | 485454
Texas: Tarrant | City of Benbrook (07-06-1254P) | November 8, 2007; November 15, 2007; Fort Worth Star-Telegram | The Honorable Jerry Dittrich, Mayor, City of Benbrook, 911 Winscott Road, Benbrook, TX 76126 | February 14, 2008 | 480586
Texas: Tarrant | City of Fort Worth (07-06-1254P) | November 8, 2007; November 15, 2007; Fort Worth Star-Telegram | The Honorable Mike J. Moncrief, Mayor, City of Fort Worth, 1000 Throckmorton Street, Fort Worth, TX 76102 | February 14, 2008 | 480596
Texas: Tarrant | City of Fort Worth (07-06-1675P) | November 8, 2007; November 15, 2007; Fort Worth Star-Telegram | The Honorable Mike J. Moncrief, Mayor, City of Fort Worth, 1000 Throckmorton Street, Fort Worth, TX 76102 | February 14, 2008 | 480596
Texas: Tarrant | City of Fort Worth (07-06-2141P) | November 8, 2007; November 15, 2007; Fort Worth Star-Telegram | The Honorable Michael Moncrief, Mayor, City of Fort Worth, City Hall, 1000 Throckmorton Street, Fort Worth, TX 76102 | February 14, 2008 | 480596
Texas: Tarrant | City of Fort Worth (07-06-2202P) | October 11, 2007; October 18, 2007; Fort Worth Star-Telegram | The Honorable Michael Moncrief, Mayor, City of Fort Worth, City Hall, 1000 Throckmorton Street, Fort Worth, TX 76102 | January 17, 2008 | 480596
Texas: Tarrant | Unincorporated areas of Tarrant County (07-06-1254P) | November 8, 2007; November 15, 2007; Fort Worth Star-Telegram | The Honorable Glen Whitley, Tarrant County Judge, 100 East Weatherford Street, Suite 501, Fort Worth, TX 76196 | February 14, 2008 | 480582
Texas: Tarrant | Unincorporated areas of Tarrant County (07-06-2141P) | November 8, 2007; November 15, 2007; Fort Worth Star-Telegram | The Honorable Glen Whitley, Tarrant County Judge, 100 East Weatherford Street, Suite 501, Fort Worth, TX 76196 | February 14, 2008 | 480582
Virginia: Montgomery | Unincorporated areas of Montgomery County (07-03-1077P) | November 8, 2007; November 15, 2007; Roanoke Times | The Honorable Steve L. Spradlin, Chair, Montgomery County Board of Supervisors, 1553 Oilwell Road, Blacksburg, VA 24060 | February 14, 2008 | 510099
Virginia: Wise | Town of Wise (07-03-1197P) | November 8, 2007; November 15, 2007; The Coalfield Progress | The Honorable Clifton Carson, Mayor, Town of Wise, P.O. Box 1100, Wise, VA 24293 | February 14, 2008 | 510179
Wisconsin: Columbia & Sauk | City of Wisconsin Dells (07-05-4282P) | November 14, 2007; November 21, 2007; Wisconsin Dells Events | The Honorable Eric Helland, Mayor, City of Wisconsin Dells, P.O. Box 655, Wisconsin Dells, WI 53965 | November 30, 2007 | 550065
Wisconsin: Milwaukee | City of West Allis (07-05-4106P) | November 1, 2007; November 8, 2007; Milwaukee Journal Sentinel | The Honorable Jeannette Bell, Mayor, City of West Allis, City Hall, Room 123, 7525 West Greenfield Avenue, West Allis, WI 53214 | October 18, 2007 | 550285
Wyoming: Sweetwater | City of Rock Springs (07-08-0796P) | September 22, 2007; September 27, 2007; Rock Springs Daily Rocket-Miner | The Honorable Timothy A. Kaumo, Mayor, City of Rock Springs, 212 D Street, Rock Springs, WY 82901 | October 1, 2007 | 560051
Wyoming: Sweetwater | Unincorporated areas of Sweetwater County (07-08-0796P) | September 22, 2007; September 27, 2007; Rock Springs Daily Rocket-Miner | The Honorable Wally Johnson, Chairman, Sweetwater County, Board of Commissioners, 80 West Flamingo Gorge Way, Green River, WY 82935 | October 1, 2007 | 560087

(Catalog of Federal Domestic Assistance No. 97.022, “Flood Insurance.”)

Dated: January 25, 2008.
David I. Maurstad,
Federal Insurance Administrator of the National Flood Insurance Program, Department of Homeland Security, Federal Emergency Management Agency.

[FR Doc. E8-2380 Filed 2-7-08; 8:45 am]

BILLING CODE 9110-12-P